FEDERAL COMMUNICATIONS COMMISSION

47 CFR Part 73

[DA 05-3208; MB Docket No. 03-223; RM-10813]

Radio Broadcasting Services; Greenville, LaGrange, and Waverly Hall, GA

AGENCY: Federal Communications Commission.

ACTION: Final rule.

SUMMARY: This document grants a proposal filed by Cox Radio, Inc. and its wholly owned subsidiary, CXR Holdings, Inc. and Davis Broadcasting, Inc. of Columbus. See 68 FR 62554, November 5, 2003. Specifically, this document substitutes Channel 239A for Channel 239C3 at Greenville, Georgia, reallots Channel 239A to Waverly Hall, Georgia, and modifies the Station WKZJ license to specify operation on Channel 239A at Waverly Hall. To replace the loss of the sole local service at Greenville, this document reallots Channel 281C1 from LaGrange, Georgia, and modifies the license of Station WALR-FM to specify Greenville as the community of license. The reference coordinates for the Channel 239A allotment at Waverly Hall, Georgia, are 32-33-58 and 84-41-03. The reference coordinates for the Channel 281C1 allotment at Greenville, Georgia, are 33-24-24 and 84-50-03. With this action, the proceeding is terminated.

DATES: Effective January 30, 2006.

FOR FURTHER INFORMATION CONTACT: Robert Hayne, Media Bureau (202) 418-2177.

SUPPLEMENTARY INFORMATION: This is a synopsis of the Report and Order in MB Docket No.03-223 adopted December 14, 2005, and released December 16, 2005. The full text of this decision is available for inspection and copying during normal business hours in the FCC Reference Information Center at Portals II, CY-A257, 445 12th Street, SW., Washington, DC. The complete text of this decision may also be purchased from the Commission's copy contractor, Best Copy and Printing, Inc., 445 12th Street, SW, Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of the Code of Federal Regulations is amended as follows:

PART 73—RADIO BROACAST SERVICES

1. The authority citation for Part 73 continues to read as follows:

Authority: 47 U.S.C. 154, 303, 334 and 336.

§ 73.202 [Amended]

2. Section 73.202(b), the table of FM Allotments under Georgia, is amended by removing Channel 239C3 and adding Channel 281C1 at Greenville, removing LaGrange, Channel 281C1, and by adding Waverly Hall, Channel 239A.

Federal Communications Commission.
John A. Karousos,
Assistant Chief, Audio Division, Media Bureau.

[FR Doc. 06-42 Filed 1-3-06; 8:45 am]

BILLING CODE 6712-01-P